DEPARTMENT OF TRANSPORTATION

Federal Highway Administration

Environmental Impact Statement: Etowah County, Alabama

AGENCY: Federal Highway Administration (FHWA), DOT.

ACTION: Notice of intent.

SUMMARY: The FHWA is issuing this notice to advise the public that an Environmental Impact Statement will be prepared for a proposed highway project in Etowah County, Alabama.

FOR FURTHER INFORMATION CONTACT: Mr. Joe D. Wilkerson, Division Administrator, Federal Highway Administration, 500 Eastern Boulevard, Suite 200, Montgomery, Alabama 36117, Telephone: (334) 223-7370.

SUPPLEMENTARY INFORMATION: The FHWA, in cooperation with the State of Alabama Department of Transportation, will prepare an Environmental Impact Statement (EIS) for Alabama Project NHF-PE 94 (2). The proposal is to extend Interstate Highway 759 (I-759) from George Wallace Drive to an interchange with U.S. Highway 431 and US-Highway 278 in the city of Gadsden, Alabama. The project will be a multi-land freeway on new location.

The proposal will allow traffic from I-759 to flow through the City of Gadsden without merging with local street traffic.

Alternatives under consideration include (1) alternate route locations, (2) a no action alternative, and (3) postponing the action.

A Public Involvement Meeting will be held in Gadsden to acquire local input on the proposed project. Written comments will be solicited from Federal, State and local agencies, officials and individuals who may have an interest in the proposal. A formal Scoping Meeting will not be held.

To ensure that the full range of issues related to this proposed action is addressed and all significant issues identified, comments and suggestions are invited from all interested parties. Comments or questions concerning this proposed action and the EIS should be directed to FHWA at the address provided above.

(Catalog of Federal Domestic Assistance Program Number 20.205, Highway Research Planning and Construction. The provisions of OMB Circular No. A-95 regarding state and local clearinghouse review of Federal and federally assisted programs and projects apply to this program.)

Joe D. Wilkerson,
Division Administrator, Montgomery, Alabama.

[FR Doc. 01-13324 Filed 5-25-01; 8:45 am]

BILLING CODE 4910-22-M